DEPARTMENT OF AGRICULTURE

Forest Service

Assessment Report of Ecological, Social, and Economic Sustainability, Conditions, and Trends for the Rio Grande National Forest

AGENCY: Forest Service, USDA.

ACTION: Notice of initiating the assessment phase of the Rio Grande National Forest land management plan revision.

SUMMARY: The Rio Grande National Forest, located in south central Colorado, is initiating the forest planning process pursuant to the 2012 Forest Planning Rule (36 CFR 219). This process results in a Forest Land Management Plan which describes the strategic direction for management of forest resources for the next fifteen to twenty years on the Rio Grande National Forest. The first phase of the process, the assessment phase, has begun and interested parties will be invited to contribute to the development of the assessment (36 CFR 219.6). The Forest hosted a series of informational meetings with key stakeholders and the public in the fall of 2014, and will be hosting additional meetings between January and June 2015. Additional information on public participation opportunities will be available on the project Web site: http://www.fs.usda.gov/riogrande. The trends and conditions identified in the assessment will help in identifying the need for change, in the development of plan components.

DATES: A draft of the assessment report for the Rio Grande National Forest is expected to be completed by fall of 2015 and will be posted on the Rio Grande National Forest Web site at http://www.fs.usda.gov/riogrande. From January 2015 through June 2015, the public is invited to engage in a collaborative process to identify relevant information and local knowledge to be considered for the assessment. The Forest will then initiate procedures pursuant to the National Environmental Policy Act (NEPA) and prepare a forest plan revision. The Forest will again be inviting the public to help identify the appropriate plan components that will become the NEPA proposed action and/or alternatives for the land management plan revision. The NEPA procedures result in a record of decision and the plan revision process results in a draft revised plan. The Federal Register availability announcement for these documents starts the pre-decisional administrative review process (36 CFR 219 Subpart B). The administrative review process provides an individual or entity an opportunity for an independent Forest Service review and resolution of issues before the final approval of a plan, plan amendment or plan revision.

ADDRESSES: Written comments or questions concerning this notice should be addressed to Rio Grande National Forest, Attn.: Plan Revision, 1803 W. Hwy 160, Monte Vista, CO 81144, or by email to: comments-rocky-mountain-rio-grande@fs.fed.us (subject heading titled Forest Plan Revision).

FOR FURTHER INFORMATION CONTACT: Amy Waring, Forest Planner, (719) 852-6215. Individuals who use telecommunication devices for the deaf (TDD) may call the Federal Information Relay Service (FIRS) at 1-800-877-8339 between 5 a.m. and 5 p.m., Pacific Time, Monday through Friday. More information on the planning process can also be found on the Rio Grande National Forest Web site at http://www.fs.usda.gov/riogrande.

SUPPLEMENTARY INFORMATION: The National Forest Management Act (NFMA) of 1976 requires that every National Forest System (NFS) unit develop a land management plan. On April 9, 2012, the Forest Service finalized its land management planning rule (2012 Planning Rule), which provides broad programmatic direction to National Forests and National Grasslands for developing and implementing their land management plans. Forest plans describe the strategic direction for management of forest resources for fifteen to twenty years, and are adaptive and amendable as conditions change over time.

Under the 2012 Planning Rule, the assessment of ecological, social, and economic trends and conditions is the first stage of the planning process. The second stage is a development and decision process guided, in part, by the NEPA and includes the preparation of a draft environmental impact statement and revised Forest Plan for public review and comment, and the preparation of the final environmental impact statement and revised Forest Plan. The third stage of the process is monitoring and feedback, which is ongoing over the life of the revised forest plans.

With this notice, the agency invites other governments, non-governmental parties, and the public to contribute to the development of the assessment report. The assessment will rapidly evaluate the sustainability of existing ecological, economic, and social conditions and trends within the context of the broader landscape. It will help inform the planning process through the use of Best Available Scientific Information, while also taking into account other forms of knowledge, such as local information, national perspectives, and native knowledge. Lastly, the assessment will help identify the need to change the existing 1996 plan.

Collaboration as part of the assessment phase supports the development of relationships of key stakeholders throughout the plan revision process, and is an essential step to understanding current conditions, available data, and feedback needed to support a strategic, efficient planning process. As public meetings, other opportunities for public engagement, and public review and comment opportunities are identified to assist with the development of the forest plan revision, public announcements will be made, notifications will be posted on the Forest's Web site at http://www.fs.usda.gov/riogrande, and information will be sent out to the Forest's mailing list. If anyone is interested in being on the Forest's mailing list to receive these notifications, please contact Amy Waring, Forest Planner, at the mailing address identified above, by sending an email to: comments-rocky-mountain-rio-grande@fs.fed.us (subject heading titled Forest Plan Revision).

Responsible Official: The responsible official for the revision of the land management plan for the Rio Grande National Forest is Dan Dallas, Forest Supervisor, Rio Grande National Forest, 1803 W. Hwy 160, Monte Vista, CO 81144.

Dated: December 17, 2014.
Dan S. Dallas,
Forest Supervisor, Rio Grande National Forest.

[FR Doc. 2014-30189 Filed 12-23-14; 8:45 am]

BILLING CODE 3410-11-P